DEPARTMENT OF DEFENSE

Office of the Secretary

[Docket ID DoD-2014-OS-0137]

Privacy Act of 1974; System of Records

AGENCY: Office of the Secretary of Defense, DoD.

ACTION: Notice to alter a System of Records.

SUMMARY: The Defense Finance and Accounting Service proposes to alter a system of records notice, T7340, entitled “Defense Joint Military Pay System—Active Component” in its inventory of record systems subject to the Privacy Act of 1974 (5 U.S.C. 552a), as amended. This system will ensure accurate and timely military pay and allowances to active component military members (including those who are enrolled at a military academy and those who participate in voluntary separation pay, Armed Forces Health Professions Scholarship Program, basic military trainees or payment to a financial organization through electronic fund transfer program (including allotments and issuance and cancellation of United States treasury checks and bonds)); to document and account for military pay and allowance disbursements and collections; to verify and account for system input transactions; to identify, correct, and collect overpayment; to establish, control, and maintain member indebtedness notices and levies; and to provide timely, complete master individual pay account review; and to provide internal and external managers with statistical and monetary reports and to maintain a record of related personnel data.

DATES: Comments will be accepted on or before October 27, 2014. This proposed action will be effective on the date following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Gregory L. Outlaw, Defense Finance and Accounting Service, Freedom of Information/Privacy Act Program Manager, Corporate Communications, DFAS-HKC/IN, 8899 E. 56th Street, Indianapolis, IN 46249-0150 or at (317) 212-4591.

SUPPLEMENTARY INFORMATION: The Defense Finance and Accounting Service notices for systems of records subject to the Privacy Act of 1974 (5 U.S.C. 552a), as amended, have been published in the Federal Register and are available from the address in FOR FURTHER INFORMATION CONTACT or from the Defense Privacy and Civil Liberties Office Web site at http://dpclo.defense.gov/.

The proposed system report, as required by 5 U.S.C. 552a(r) of the Privacy Act of 1974, as amended, was submitted on September 4, 2014, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: September 22, 2014.
Aaron Siegel,
Alternate OSD Federal Register Liaison Officer, Department of Defense.

T7340

System name:

Defense Joint Military Pay System-Active Component (March 5, 2013, 78 FR 14283).

* * * * *

Changes:

* * * * *

Categories of individuals:

Delete entry and replace with “All active duty service members to include members enrolled at military academies.”

* * * * *

[FR Doc. 2014-22812 Filed 9-24-14; 8:45 am]

BILLING CODE 5001-06-P